DEPARTMENT OF THE TREASURY

Alcohol and Tobacco Tax and Trade Bureau

27 CFR Part 9

[Docket No. TTB-2012-0004; Notice No. 129]

RIN 1513-AB46

Proposed Establishment of the Indiana Uplands Viticultural Area and Modification of the Ohio River Valley Viticultural Area

AGENCY: Alcohol and Tobacco Tax and Trade Bureau, Treasury.

ACTION: Notice of proposed rulemaking.

SUMMARY: The Alcohol and Tobacco Tax and Trade Bureau (TTB) proposes to establish the approximately 4,800-square mile “Indiana Uplands” viticultural area in south-central Indiana and proposes to modify the boundary of the established Ohio River Valley viticultural area, which would result in the elimination of a potential overlap with the proposed Indiana Uplands viticultural area. These proposals would result in an approximately 1,530 square mile region no longer being part of the Ohio River Valley viticultural area as the affected region would be included in the new Indiana Uplands viticultural area. TTB designates viticultural areas to allow vintners to better describe the origin of their wines and to allow consumers to better identify wines they may purchase. TTB invites comments on these proposals.

DATES: TTB must receive written comments on or before August 7, 2012.

ADDRESSES: You may send comments on this notice to one of the following addresses:

• http://www.regulations.gov (via the online comment form for this notice as posted within Docket No. TTB-2012-0004 at “Regulations.gov,” the Federal e-rulemaking portal);

• U.S. Mail: Director, Regulations and Rulings Division, Alcohol and Tobacco Tax and Trade Bureau, P.O. Box 14412, Washington, DC 20044-4412; or

• Hand delivery/courier in lieu of mail: Alcohol and Tobacco Tax and Trade Bureau, 1310 G Street NW., Suite 200E, Washington, DC 20005.

See the Public Participation section of this notice for specific instructions and requirements for submitting comments, and for information on how to request a public hearing.

You may view copies of this notice, selected supporting materials, and any comments TTB receives about this proposal at http://www.regulations.gov within Docket No. TTB-2012-0004. A direct link to this docket is posted on the TTB Web site at http://www.ttb.gov/wine/wine_rulemaking.shtml under Notice No. 129. You also may view copies of this notice, all related petitions, maps or other supporting materials, and any comments TTB receives about this proposal by appointment at the TTB Information Resource Center, 1310 G Street NW., Washington, DC 20005. Please call 202-453-2270 to make an appointment.

FOR FURTHER INFORMATION CONTACT: Elisabeth C. Kann, Regulations and Rulings Division, Alcohol and Tobacco Tax and Trade Bureau, 1310 G St. NW., Box 12, Washington, DC 20005; phone 202-453-1039, ext. 002.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated January 21, 2003, to the TTB Administrator to perform the functions and duties in the administration and enforcement of this law.

Part 4 of the TTB regulations (27 CFR part 4) allows the establishment of definitive viticultural areas and the use of their names as appellations of origin on wine labels and in wine advertisements. Part 9 of the TTB regulations (27 CFR part 9) sets forth standards for the preparation and submission of petitions for the establishment or modification of American viticultural areas and lists the approved American viticultural areas.

Definition

Section 4.25(e)(1)(i) of the TTB regulations (27 CFR 4.25(e)(1)(i)) defines a viticultural area for American wine as a delimited grape-growing region having distinguishing features as described in part 9 of the regulations and a name and a delineated boundary as established in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.12 of the TTB regulations (27 CFR 9.12) prescribes standards for petitions for the establishment or modification of American viticultural areas. Such petitions must include the following:

• Evidence that the area within the proposed viticultural area boundary is nationally or locally known by the viticultural area name specified in the petition;

• An explanation of the basis for defining the boundary of the proposed viticultural area;

• A narrative description of the features of the proposed viticultural area that affect viticulture, such as climate, geology, soils, physical features, and elevation, that make it distinctive and distinguish it from adjacent areas outside the proposed viticultural area boundary;

• A copy of the appropriate United States Geological Survey (USGS) map(s) showing the location of the proposed viticultural area, with the boundary of the proposed viticultural area clearly drawn thereon; and

• A detailed narrative description of the proposed viticultural area boundary based on USGS map markings.

Indiana Uplands Petition

Jim Butler of Butler Winery in Bloomington, Indiana submitted a petition to establish the approximately 4,800-square mile Indiana Uplands American viticultural area in south-central Indiana. The proposed Indiana Uplands viticultural area contains 19 vineyards with approximately 200 acres under cultivation, 2 planned vineyards of 15 to 20 acres each, and 17 wineries; the existing and planned vineyards are geographically distributed throughout the proposed viticultural area, according to a map submitted with the petition. Unless otherwise noted, all information and data set forth below are from the petition for the proposed Indiana Uplands viticultural area and its supporting exhibits.

Spanning 110 miles north to south beginning at the line that separates Morgan and Monroe Counties, the proposed Indiana Uplands viticultural area extends south to the Ohio River at the Kentucky border. The proposed viticultural area extends approximately 63 miles east to west at its widest point, from Clark County to Martin County. Nineteen Indiana counties are located partially or totally within the proposed viticultural area: Monroe, Brown, Morgan, Owens, Greene, Lawrence, Bartholomew, Orange, Washington, Floyd, Harrison, Perry, Crawford, Jackson, Martin, Daviess, Dubois, Scott, and Spencer.

TTB notes that approximately 1,530 square miles in the southern portion of the proposed Indiana Uplands viticultural area is currently within the approximately 26,000-square mile Ohio River Valley viticultural area (27 CFR 9.78). The Ohio River Valley viticultural area encompasses the broad valley surrounding the Ohio River in Indiana, Kentucky, Ohio, and part of West Virginia; see T.D. ATF-144, published in the Federal Register (48 FR 40377) on September 7, 1983. This issue is addressed in more detail later in this preamble.

Name Evidence

The “Indiana Uplands” geographic name was first commonly used for the region in which the proposed viticultural area is located beginning in the 1920s, and today that region is still referred to as the “Indiana Uplands.” For example, Paul Harris, the founder of Rotary International, wrote that “[w]e had never even thought it possible that there could be country of such remarkable scenic interest so near to Chicago and yet so little advertised. Surely the much-heralded Berkshire hills have nothing on this wonderful stretch of Indiana uplands” (“A Sentimental Journey through Hoosierdom,” Rotary Globe History Fellowship, 1924, available at www.whatpaulharriswrote.org). A 1976 article from National Geographic magazine relates the story of the “Uplanders,” the earliest white settlers in the area, and the map from that article highlights the Indiana Uplands area (“Indiana's Uplands,” in “Indiana's Self-Reliant Uplanders,” James Alexander, National Geographic, March 1976).

Further, some publications have recognized the distinctiveness of the Indiana Uplands region as compared to the surrounding areas. As stated in a visitors' brochure, “Bloomington is nestled in the hills of the Indiana Uplands. These unglaciated hills extend from north of Bloomington southward to the Ohio River” (Monroe County Convention and Visitors Bureau brochure, undated). [TTB notes that Bloomington is located in the north-central portion of the proposed viticultural area, as shown on the Bloomington USGS map.] An article in the Bloomington Herald Times similarly states that the Indiana Uplands area contains the unglaciated plateau geography of southern Indiana that begins south of Martinsville and extends to the Ohio River at the northern border of the State of Kentucky (“State of Wine: New designation aimed at creating tourist destinations for area wineries,” Bloomington Herald Times, July 4, 2004). That same article discusses the Indiana Uplands Wine Trail, which was organized in 2003 and founded by 7 wineries located within the proposed Indiana Uplands viticultural area.

Boundary Evidence

History of Viticulture in the Proposed Indiana Uplands Viticultural Area

Between 1843 and 1846, Simon Huber planted vineyards and orchards in Starlight, Floyd County, Indiana, and he commercially produced wine until the early 1900s (Ted Huber, in an April 2006 interview with the petitioner). During that same era, five miles south of the Huber vineyard, “Pop” Stumler also grew grapes and made and marketed wine. Each winemaker produced approximately 1,000 gallons of wine annually. The 1880 census reported that 26,000 gallons of wine were produced within the Indiana Uplands region that year, which constituted approximately one quarter of the wine produced in Indiana. Winemaking in the region continued in the 1890s and early 1900s, with John Sacksteder producing 10,000 gallons of wine annually in Leavenworth, Perry County, Indiana (Richard Sacksteder, in a January 2002 letter to the petitioner), which included the ceremonial wine for the Roman Catholic Diocese of Kentucky.

Prohibition halted the commercial production of wine in the Indiana Uplands region, but grape growing in the region regained popularity beginning in the 1960s. In 1966, grapevines were planted at the Oliver Winery northwest of Bloomington; in 1971, grapevines were planted at the Easley Winery at Cape Sandy near the Ohio River and the Possum Trot Winery near Unionville; and, in 1987, the Huber family started replanting grapevines.

Proposed Boundary Line of the Proposed Indiana Uplands Viticultural Area

The proposed Indiana Uplands viticultural area encompasses a plateau landform that contains elevations between 200 and 600 feet above the surrounding regions; the proposed boundary line generally follows the contour lines at the base of the plateau. Where the edges of the plateau lack sharp changes in elevation, or where contour lines greatly meander, the proposed boundary line follows features such as county borders, roads, railroad tracks, and rivers, or follows straight lines between points found on the appropriate USGS maps. The proposed Indiana Uplands viticultural area contains three physiographic divisions: the Crawford Upland, the Norman Upland, and the Mitchell Plateau (“Map of Indiana Showing Physiographic Divisions,” Henry H. Gray, Indiana Geological Survey, 2001).

The western portion of the boundary line of the proposed Indiana Uplands viticultural area approximates the boundary between the physiographic regions of the Crawford Upland on the Indiana Uplands plateau within the proposed viticultural area and the Boonville Hills and Wabash Lowland to the west outside of the proposed viticultural area (id.). The northern portion of the boundary line marks the separation of the Indiana Uplands plateau from the Central Till Plain Region of central Indiana (id.). The eastern portion of the proposed boundary line divides the Norman Uplands immediately inside the eastern portion of the proposed Indiana Uplands viticultural area from the Scottsburg Lowland of southeastern Indiana (“Map of Indiana Showing Bedrock Physiographic Units” in “Natural Features of Indiana,” Alton A. Lindsey, editor, Indiana Academy of Science, Indiana State Library, 1966). The southern boundary line follows the northern bank of the Ohio River, which separates Indiana from Kentucky, westward from New Albany to the boundary's beginning point at Troy, Indiana.

Specifically, the proposed Indiana Uplands viticultural area boundary begins at the confluence of the Anderson River with the Ohio River at Troy, then proceeds north-northwest in a straight line to the junction of State Roads 62 and 162, north of Santa Claus. It then follows State Road 162 north to Jasper, then U.S. 231 north to Bloomfield, where it then largely follows the 180-meter contour line northeast along the White River flood plain to the southwest corner of Morgan County. The proposed boundary then follows the 200-meter contour line easterly along the White River and Indian Creek flood plains to State Road 135. The boundary then follows the Brown County line to the county's northeastern corner.

The proposed Indiana Uplands viticultural area boundary then proceeds south along several straight lines and State Road 58 to just past the Bartholomew-Jackson county line (passing east of Harrison, Grandview, and Lutheran Lakes), then follows the 200-meter contour line, U.S. 50, and State Road 235 to Medora. The boundary then proceeds southwest along a railroad to Sparksville, then runs east to Millport, then southeasterly to Pumpkin Center, then follows a straight line south to Old State Road 56, then follows that road and S. Bloomington Trail to Leota, and then continues in a straight line to Interstate 65 at Underwood. The proposed boundary then proceeds south-southwest in a straight line to State Route 60 at Carwood, and then follows State Routes 60 and 111 south to St. Joseph, where it then proceeds southerly along straight lines through Bald Knob and Lost Knob before proceeding south in a straight line, passing along the western edge of New Albany, to the confluence of French Creek with the Ohio River in Franklin Township, just southwest of New Albany. The proposed boundary then follows the Indiana shoreline of the Ohio River westward (downstream) to its beginning point at the mouth of the Anderson River at Troy.

Note: TTB made several modifications to the petitioned-for boundary in order to use more easily-located features that appear on the USGS maps used to determine the boundaries of both the proposed Indiana Uplands viticultural area and the established Ohio River viticultural area, and to more closely conform the proposed boundary to the base of the Indiana Uplands plateau. The Indiana Uplands petitioner has agreed to the suggested changes.

Distinguishing Features

The distinguishing features of the proposed Indiana Uplands viticultural area include its geology, topography, comparatively high plateau elevations, thin residual soils mantled with loess, and a distinctively cool growing season climate. In contrast to the proposed viticultural area, the surrounding regions outside of it have lower elevations, evidence of repeated glacial advances, and different soils and topography. In addition, the surrounding regions to the east, south, and west of the Indiana Uplands plateau have a warmer growing season climate.

Geology

The underlying bedrock of the proposed Indiana Uplands viticultural area is a factor that contributes to its uniqueness as a grape-growing area because the bedrock influences the area's distinctive topography, climate, and soils. The bedrock, which was formed in a shallow inland sea during the Mississippian period approximately 345 to 325 million years ago, is composed of layers of limestone, shale, and sandstone that tilt west-southwesterly and descend 25 to 30 feet in elevation per mile. Based on its topographic tilt, the bedrock near the surface is more recent from east to west across the region.

During the Illinoian glacial advance, glaciers advanced up to and proceeded around the proposed Indiana Uplands viticultural area on its west, north, and east sides, leaving relatively higher elevations on the plateau landform as compared to the rest of Indiana. Over time, the plateau remained free from glacial advances due to the height of the plateau. Several studies that attempted to define the perimeter of the glacier boundary line surrounding the Indiana Uplands region produced somewhat differing results; as a result, the boundary line of the proposed Indiana Uplands viticultural area follows a conservative estimate of glacial advances and conforms to the physiographic units of the region (“Physiography of Eastern United States,” Nevin Fenneman, McGraw-Hill Book Co., 1938).

Due to the lack of glaciations in the region, the topography of the proposed Indiana Uplands viticultural area strongly reflects the structure of its bedrock. As a result, the landforms within the Indiana Uplands plateau region were primarily created by the weathering and stream erosion of the bedrock, which created the steep valleys and high ridges that are common throughout the area. Although the Indiana Uplands region was generally not glaciated, there was some glacial intrusion around the edges of the plateau, resulting in a thin layer of glacial drift over the bedrock in those areas.

Topography

The proposed Indiana Uplands viticultural area plateau landscape contains numerous creeks that feed into lakes and rivers, according to the USGS maps. The terrain is generally hilly throughout the region, especially in the rural forests, parks, and wilderness areas. In addition, according to the USGS maps, steep ridges predominate along much of the boundary line, marking where the plateau descends to the surrounding lower elevations. At the approximate center of the proposed Indiana Uplands viticultural area are the Hoosier National Forest and Monroe Lake, which are surrounded by other forests, parks, lakes, and recreation areas, according to the USGS maps.

According to USGS maps, the plateau that comprises the proposed Indiana Uplands viticultural area gradually descends from an elevation of 1,033 feet in the northeast corner to an elevation of 358 feet in the southwest corner, although glacial till deposits moderate some differences in elevations along the proposed boundary line. The Ohio River bluffs rise to a height of 600 feet above the water line in some areas within the proposed viticultural area.

As shown in the below table, which TTB created based on data and USGS maps submitted with the petition, elevations generally are higher within the proposed viticultural area than in the surrounding areas.

Elevations Relative to the Indiana Uplands
Area | Location | Feet
Bloomington | Within north | 789
Paoli | Within central | 720
Doolittle Mill | Within south | 656
Martinsville | Outside north | 623
Scottsburg | Outside east | 557
Louisville | Outside southeast | 460
Huntingburg | Outside west | 525

Elevations in the northeast portion of the Indiana Uplands plateau generally reach 850 to 950 feet, and the Knobstone Escarpment, which defines part of the eastern and northern portions of the proposed boundary line, reaches an elevation of approximately 1,000 feet, according to USGS maps. Elevations in the southeast portion of the proposed Indiana Uplands viticultural area generally vary between 450 and 600 feet. The lowest point in the proposed viticultural area is at an elevation of 358 feet at the confluence of the Anderson and Ohio Rivers in the southwestern corner of the proposed viticultural area, according to USGS maps.

As noted above, there are three physiographic units within the proposed Indiana Uplands viticultural area: The Norman Upland, the Mitchell Plateau, and the Crawford Upland (“Natural Features of Indiana,” supra). Each of these physiographic units is underlain by different rock materials of different ages (including shale, limestone, and sandstone) that have different rates of erosion, resulting in a variety of landforms within the Indiana Uplands region: The Norman Uplands in the eastern portion of the proposed viticultural area is generally characterized by flat-topped ridges with steep slopes that form deep V-shaped valleys and strong relief; the Mitchell Plateau in the center ranges from relatively steep topography drained by surface streams to undulating plains with sinkholes for underground drainage; and the Crawford Upland in the west resembles the Norman Upland but with greater local relief of 350-500 feet (id., pp. 77-78).

By contrast, the surrounding areas to the east, north, and west contain different physiographic units, which similarly affect the topography and soils in those areas. The Illinoian glacial advance stopped before reaching the Boonville Hills to the southwest of the Indiana Uplands, where windblown sand and silt cover the predominant undulating topography. The wider valleys of the Boonville Hills are characterized by island-like masses of bedrock covering several square miles that rise 100 to 150 feet above the surrounding areas.

To the east of the proposed viticultural area, relatively nonresistant late Devonian and early Mississippian shales underlie the low relief of the Scottsburg Lowland, with elevations below the proposed viticultural area ranging from approximately 750 feet to the northeast of the proposed viticultural area to 500 feet to the southeast of the proposed viticultural area. The northern portion of the Scottsburg Lowland is partially filled with up to 150 feet of glacial drift, which reduces the elevation differential compared to the Indiana Uplands plateau to 150 feet in that area.

The area to the north of the Indiana Uplands area, recently designated as the Martinsville Hills, contains thick glacial deposits that nearly obscure the general form of the bedrock units (“Natural Features of Indiana,” supra). The Wabash Lowland, a broad lowland with an average elevation of 500 feet and a partial blanket of glacial till, is located to the west of the proposed viticultural area. Although the same three physiographic units of the Indiana Uplands area—the Norman Upland, the Mitchell Plateau, and the Crawford Upland—generally extend south into Kentucky, the region to the south of the Indiana Uplands plateau is separated from the proposed viticultural area by the Ohio River Valley (“Handbook of Indiana Geology,” C.A. Mallot, Publication 21, part 2, Indiana Department of Conservation, 1922).

Soils

The proposed Indiana Uplands viticultural area contains soils formed predominantly in discontinuous loess over weathered sandstone, shale, or limestone (“Map of the Soils Regions of Indiana,” in “Adaptability of Tillage-Planting Systems of Indiana Soils,” G.C. Steinhardt, D.R. Griffith, and J.V. Mannering, Agronomy Department, Cooperative Extension Service, Purdue University, 1990). The thin residual soils formed in loess overlying the parent material contrast with the surrounding glacial deposits to the west, north, and east of the Indiana Uplands plateau.

The predominant soil types in the proposed Indiana Uplands viticultural area belong to the red-yellow podzolic soil group (“Natural Features of Indiana,” supra, pp. 65-66). These soils are more common on the unglaciated Indiana Uplands than in other areas of Indiana, and the subsoil of these soils varies from red through yellowish-red and a brighter yellowish-brown silt loam to silty clay loam. Due to the relatively low fertility of these soils, applications of lime and fertilizer and good vineyard management practices are needed in this area.

The erosion rate of the soils in the Indiana Uplands region exceeds that of soils located in other areas of Indiana (“Climate of Indiana,” S.S. Visher, Science Series No. 13, Indiana University Publications, 1944, pp. 373-374). Erosion is a significant problem in the Indiana Uplands region due to: (1) Its commonly steep, rugged terrain; (2) the greater incidence of heavy rains than in other areas of the state; and (3) poor farming practices in the 1800s. These factors have caused a depletion in the quantity of topsoil in the ridges and hilltops in the region, which results in a significant decrease in the potential productivity of the soils in the proposed Indiana Uplands viticultural area for general agricultural purposes.

Two general soil associations formed in the region encompassed by the proposed Indiana Uplands viticultural area (“Natural Features of Indiana,” supra, pp. 77-80). One soil association, consisting of Zanesville, Tilsit, Wellston, Gilpin, Berks, Montevallo, Ramsey, and Muskingum soils, is located on the Norman Upland on the east side of the Indiana Uplands plateau and on the Crawford Upland on the west side. The second soil association consists of Frederick, Bewleyville, and Crider soils, which are located on the Mitchell Plateau in the middle of the Indiana Uplands region.

To the east of the proposed Indiana Uplands viticultural area, the soils formed in moderately thick loess over weathered loamy glacial till (“Natural Features of Indiana,” supra, pp. 83-84). The predominant soils include the well-drained Cincinnati and Hickory soils, the moderately well-drained Ross and Moyne soils, and the poorly drained Avonburg soils. To the west and north of the proposed Indiana Uplands viticultural area, the soils of the western lobe of the Illinoian Till Plain range from thick to moderately thick loess deposits over weathered loamy glacial till (“Natural Features of Indiana,” supra, pp. 81-82). The well drained-Cincinnati soils, the moderately well-drained Ave soils, and the poorly drained Vigo soils are predominant in these areas. Only to the south of the proposed Indiana Uplands viticultural area, across the Ohio River in Kentucky, are adjacent soils similar to those on the Indiana Uplands.

Although the thin, acidic, and in some places poorly drained soils of the Indiana Uplands region are not suited to most types of farming without liming, deep plowing, or installation of tile drainage in areas with hardpans, these soils are not incompatible with grape growing. As Albert J. Winkler stated, “[t]he largest vines and the heaviest crops are produced on deep, fertile soils. The quality of fruit is better, although the yields are usually lower, on soils of lower fertility or soils limited in depth by hardpan, rocks, or clay strata” (“General Viticulture,” Albert J. Winkler, University of California Press, 1974, p. 71). Similarly, although the soils in the proposed Indiana Uplands viticultural area are thinner and less productive than those in surrounding regions, the petitioner notes that they should produce quality fruit and wines of a distinctive character.

Climate

The elevations and topography of the proposed Indiana Uplands viticultural area contribute to the unique climatic conditions within the proposed viticultural area. Cold air drainage from vineyards on the hilltops and ridges of the elevated plateau landform flows as much as 350 feet to the valleys below, creating air movement, limiting frost accumulation in the vineyards, and extending the growing season in spring and fall. In addition, the hilltops and ridges in the area catch breezes that keep the fruit dry and free of fungus and mildew. Consequently, as described below, air temperature and precipitation are distinguishing climatic features of the proposed Indiana Uplands viticultural area.

Temperature: Summer and winter temperatures in the proposed Indiana Uplands viticultural area normally are cooler than those in areas to the east, south, and west of the plateau. The cooler temperatures result in lower total accumulated growing degree days (GDD) ¹ during the growing season (April through October), as compared to most surrounding areas.

¹ In the Winkler climate classification system, heat accumulation during the grape-growing season measured in GDD defines climatic regions (“General Viticulture,” A.J. Winkler, University of California Press, 1974, pp. 61-64). One degree day accumulates for each degree Fahrenheit that a day's mean temperature is above 50 degrees, the minimum temperature required for grapevine growth. Climatic region I has less than 2,500 GDD per year; region II, 2,501 to 3,000; region III, 3,001 to 3,500; region IV, 3,501 to 4,000; and region V, 4,001 or more.

As shown in the below table, which TTB prepared based on data and a map submitted with the petition, temperatures and GDDs on the Indiana Uplands plateau are generally lower than in most areas outside the plateau; only the adjacent northwest area has cooler growing conditions. According to this data, most of the proposed viticultural area is located in climatic region III, with some region IV areas on the western and southern margins. By contrast, the surrounding areas outside of the proposed viticultural area generally are in region IV.

Annual Growing Degree Days and Climatic Regions of Locations Within and Outside of the Indiana Uplands, 1961-90 *
Location of weather station | Annual growing degree days | Climatic region
Within north-central | 3,405 | III
Within central | 3,318 | III
Within south-central | 3,426 | III
Outside northwest | 3,227 | III
Outside west | 3,889 | IV
Outside northeast | 3,536 | IV
Outside east | 3,554 | IV
Outside south | 3,597 | IV
* Based on National Climatic Data Center (NCDC) data, as represented in “Indiana and Kentucky Growing Degree Days” map, Jim Butler, unpublished, 2007, submitted with the petition.

Precipitation: The comparatively high level of precipitation in the proposed Indiana Uplands viticultural area results from moist air masses flowing from the southwest and passing over the Indiana Uplands plateau. The proposed Indiana Uplands viticultural area receives more annual rainfall than other regions of Indiana, as shown in the table below, which TTB prepared based on data submitted with the petition.

Annual Rainfall Within and Outside of the Proposed Viticultural Area *
Region of Indiana | Inches
Locations within the proposed viticultural area | 47
Outside, southern part of the State | 44
Outside, central part of the State | 42
Outside, northeastern part of the State | 37
* Based on NCDC data for Indiana for 1971-2000 (http://www.ncdc.noaa.gov/oa/ncdc.html), submitted with the petition.

As previously noted, over time, the heavier precipitation in the region has contributed to greater soil erosion on the Indiana Uplands plateau than in other parts of the state as well as an increased breakdown of organic material in the soil. The increased precipitation does not negatively affect grape-growing in the region, however, because the heaviest precipitation occurs from November through May (according to data from the National Climactic Data Center (1971-2000)). The annual rainfall in the proposed Indiana Uplands viticultural area is approximately the same from June through October as compared to the rest of Indiana, resulting in relatively dry soils for the important grape ripening months of August, September, and October.

TTB Determination Regarding the Proposed Indiana Uplands Viticultural Area

TTB concludes that the petition to establish the approximately 4,800-square mile Indiana Uplands viticultural area merits consideration and public comment as invited in this notice. Consistent with 27 CFR 9.12(b), however, TTB considered whether the features of the portion of the proposed Indiana Uplands viticultural area that overlaps the established Ohio River viticultural area are so clearly distinguished from the larger Ohio River Valley viticultural area that wine produced from grapes grown within the overlap area should no longer be entitled to use the name of the Ohio River Valley viticultural area as an appellation of origin or in a brand name if the proposed Indiana Uplands viticultural area is established. Accordingly, the following sections of this preamble: (1) Provide an overview of the existing Ohio River Valley viticultural area; (2) contrast the distinguishing features of the Ohio River Valley viticultural area to those of the proposed Indiana Uplands viticultural area; and (3) discuss a proposed modification of the boundary of the Ohio River Valley viticultural area.

Overview of the Ohio River Valley Viticultural Area

According to T.D. ATF-144, the currently established approximately 26,000-square mile Ohio River Valley viticultural area includes extensive valley areas on both sides of the Ohio River, covering portions of Indiana, Kentucky, Ohio, and West Virginia, extending from Valley Grove, West Virginia to the convergence of the Kentucky, Illinois, and Indiana state lines at the confluence of the Wabash and Ohio Rivers. In Indiana, the boundary line of the Ohio River Valley viticultural area runs diagonally northeast-to-southwest, and in some areas the boundary line extends approximately 32 miles northward from the Ohio River, as shown on USGS maps.

TTB notes that the 943-mile-long Ohio River starts at the confluence of the Allegheny and Monongahela Rivers at Point State Park in Pittsburgh, Pennsylvania and flows generally southwest, joining the Mississippi River at Cairo, Illinois. According to T.D. ATF-144, the Ohio River Valley viticultural area is characterized by a distinctive rainfall pattern that includes accumulations in excess of 2.5 inches within a 24-hour period each month, except in October. T.D. ATF-144 further states that the moderate to slow permeability of the dominant, gray-brown podzolic soils and the general topography of the valley result in rapid runoff during intensive rains.

In addition, according to T.D. ATF-144, winds that originate in the Gulf of Mexico travel up the river valley from the Mississippi Valley, resulting in a more moderate climate with less dramatic temperature extremes during the growing season than other areas of similar latitude. The petition for the establishment of the Ohio River Valley viticultural area (ORV petition) notes that the riverine climate and upstream winds help prevent excessive moisture from damaging crops, and the surrounding areas protect the river valley against weather extremes. Vineyards in the Ohio River Valley region are commonly located on hillsides that absorb the sun's warmth and provide optimum growing conditions, according to the ORV petition.

Differences in Distinguishing Features

Based on TTB's review of the evidence and other information provided in the ORV petition and the petition and evidence submitted in support of the proposed Indiana Uplands viticultural area, the geology, topography, soils, and climate of each area are distinguishable.

Geology

Although T.D. ATF-144 does not specifically address the geology of the Ohio River Valley viticultural area, the geological history of the Ohio River Valley region was discussed in the ORV petition. According to the ORV petition, the Ohio River was created by the impact of glaciers in the Ohio region during the last Ice Age. Prior to the Ice Age, there were only other rivers and streams in the Ohio area, with high ridges located between segments of what became the Ohio River. The ORV petition explains that glaciers later blocked the northward flow of rivers in the region, causing them to form large inland glacial lakes. Eventually, the dammed up lakes reached elevations that caused the water to start eroding new, southwesterly channels. Then, as the great ice sheet began to melt during the Ice Age thaw, enormous amounts of water were released into the lakes of Ohio, and the resulting torrent of water, ice, sand, gravel, and boulders sculpted wide creek beds and crushed the glacial lake dams. The ORV petition states that this deluge further deepened and widened the new river valley to approximately the current shape and location of the Ohio River.

In contrast, as noted above, the proposed Indiana Uplands viticultural area encompasses a continuous plateau of unglaciated bedrock. As described in the Indiana Uplands petition, the Indiana Uplands plateau formed 345 to 325 million years ago from an inland sea, and, during the last Ice Age, the elevated, bedrock-controlled plateau deflected repeated glaciations from the west, north, and east. These glaciations reached only to the edges of the plateau, and largely did not affect the Indiana Uplands region. The terrain of the Indiana Uplands plateau generally was formed by weathering and stream erosion, in contrast to the glacial effects that created the Ohio River Valley.

Topography

Based on a review of the ORV petition, the petition for the proposed Indiana Uplands viticultural area, and the relevant USGS maps, TTB believes that the topography within the Ohio River Valley viticultural area also differs from that within the proposed Indiana Uplands viticultural area. The currently approved 26,000-square mile Ohio River Valley viticultural area is characterized by a long river with many tributaries and an expansive valley; in contrast, the 4,800-square mile proposed Indiana Uplands viticultural area is characterized by a rural and hilly plateau landform.

Soils

T.D. ATF-144, the ORV petition, and the petition for the proposed Indiana Uplands viticultural area provide evidence that the predominant soils within the Ohio River Valley viticultural area are significantly different from those in the Indiana Uplands plateau. According to T.D. ATF-144, gray-brown podzolic soils are predominant on the ridges, hills, and slopes of the Ohio River Valley viticultural area. After intensive rainfall, the slow to moderate permeability of these soils and the valley topography cause rapid runoff and prevent a flood hazard.

In contrast, red-yellow podzolic soils predominate within the proposed Indiana Uplands viticultural area, according to the Indiana Uplands petition. These soils formed in discontinuous loess over weathered sandstone, shale, and limestone, and have moderate permeability. In addition, the Indiana Uplands petition states that the soil types found in the proposed Indiana Uplands viticultural area are more common on the unglaciated Indiana Uplands plateau than they are in surrounding areas, and they have a higher erosion rate than soils in other, more glaciated areas of Indiana.

Climate

The climate within the Ohio River Valley viticultural area also appears to differ from that of the proposed Indiana Uplands viticultural area. According to T.D. ATF-144, the Ohio River Valley viticultural area climate is characterized by a distinctive rainfall pattern (called “Ohio Type”) and is influenced by wind. In the “Ohio Type” climate, the Ohio River Valley can receive accumulations in excess of 2.5 inches within a 24-hour period each month, except in October. Such rainfalls would cause a severe flood hazard but for the moderate to slow permeability of the predominant soils and the geography of the river valley, which permits rapid runoff after intensive rainfall. T.D. ATF-144 also states that the climate of the Ohio River Valley viticultural area is further distinguished by winds that originate in the Gulf of Mexico, travel northeast through the Mississippi River Valley, and pass through the Ohio River Valley. As a result, the climate within a few miles of the river is more moderate and has less dramatic temperature extremes during the growing season as compared to other areas of similar latitude.

According to the Indiana Uplands petition, the average annual precipitation in the proposed Indiana Uplands viticultural area is 47 inches, which is higher than in other areas of Indiana. However, this represents 13 inches less precipitation annually than the Ohio River Valley viticultural area, according to TTB research using the long-term database of the Midwestern Regional Climate Center (MRCC) in cooperation with the Illinois State Water Survey and National Climatic Data Center. TTB further notes that the Indiana Uplands plateau does not appear to be affected by the consistent wind pattern and the “Ohio Type” rainfall pattern that characterize the weather of the Ohio River Valley viticultural area.

In addition, as shown in the below table, growing season temperatures are generally significantly lower on the Indiana Uplands plateau than in the Ohio River Valley viticultural area.

Area | GDD | Winkler climatic region
Indiana Uplands plateau | 3,383 | III
Ohio River Valley AVA * (average) | 4,018 | V
* The 3,383 GDD average is based on the data from the Indiana Uplands petition discussed above; the 4,018 GDD average is derived from MRCC statistics for Evansville, Illinois (4,063 degrees), Owensboro (4,154 degrees) and Louisville, Kentucky (4,115 degrees), and Cincinnati, Ohio (3,741 degrees), all within the Ohio River Valley viticultural area.

Proposed Modification of the Ohio River Valley Viticultural Area Boundary

Based on the evidence summarized above, TTB believes that there are significant differences between the distinguishing features of the Ohio River Valley viticultural area and those of the proposed Indiana Uplands viticultural area. In addition, the Indiana Uplands petition presents evidence that the geology, soils, topography, and climate of the proposed viticultural area are largely consistent throughout the proposed Indiana Uplands viticultural area—including the area that is currently within the Ohio River Valley viticultural area—and are distinctive when compared to the large Ohio River Valley viticultural area.

Accordingly, TTB believes that there is a valid basis to conclude that the features of that portion of the proposed Indiana Uplands viticultural area that is currently within the Ohio River Valley viticultural area are sufficiently distinct from those of the larger Ohio River Valley viticultural area as to no longer warrant the inclusion of that portion within the boundary of the Ohio River Valley viticultural area. TTB therefore proposes the modification of the boundary of the Ohio River Valley viticultural area so as not to include the 1,538-square mile area that would overlap the proposed Indiana Uplands viticultural area if the Indiana Uplands viticultural area were to be established as proposed in the petition.

The petitioner for the proposed Indiana Uplands viticultural area has advised TTB that he supports the proposed modification of the boundary of the Ohio River Valley viticultural area. In communications with TTB, the Indiana Uplands petitioner agreed that there are significant differences between the two areas as regards the distinguishing features, and he concluded that a modification of the boundary of the Ohio River Valley viticultural area would be warranted if the proposed Indiana Uplands viticultural area is established.

At TTB's request, the petitioner obtained letters from the 11 wineries and vineyards that would be affected by the proposed modification of the Ohio River Valley viticultural area, all of which indicate agreement with the proposed modification. In their letters, the vineyard owners also indicate their willingness to no longer to use “Ohio River Valley” as an appellation of origin for wine produced from their grapes if the boundary is modified as proposed in this notice.

Description of Proposed Modification of Ohio River Valley Viticultural Area Boundary

The portion of the proposed Indiana Uplands viticultural area that is currently within the Ohio River Valley viticultural area extends, at the widest points, approximately 53 miles east-to-west and 42 miles north-to-south. Seven Indiana counties are partially or totally within the area affected by the proposed modification of the Ohio River Valley viticultural area: Washington, Clark, Floyd, Harrison, Perry, Crawford, Scott, and Spencer Counties.

The USGS maps used to define the Ohio River Valley viticultural area are regional maps on a scale of 1:250,000 feet. The maps used to define the Indiana Uplands viticultural area petition are on a scale of 1:100,000 meters on 30- x 60-minute quadrangles. For consistency, the description of the proposed Ohio River Valley viticultural area boundary modification is presented in the below paragraph in the same manner and direction as the existing boundary description for that area in 27 CFR 9.78.

The beginning point of the proposed modification of the Ohio River Valley viticultural area is on the Vincennes map where State Road 162 diverges northerly from U.S. Route 460 (locally known today as State Road 62) in Spencer County, Indiana. From that point, the proposed concurrent boundary line for the Indiana Uplands-Ohio River Valley viticultural areas follows a straight line south-southeast onto the Evansville map to the confluence of the Anderson River with the Ohio River just west of Troy, Indiana. The concurrent boundary line then continues generally eastward (upstream) along the Indiana shoreline of the Ohio River, crosses over and back on the Vincennes map, and onto the Louisville map, to the mouth of French Creek in Franklin Township, Floyd County, Indiana (just downstream from New Albany).

The concurrent boundary line then follows a straight line north through Lost Knob and Bald Knob to St. Joseph on State Road 111, where it then follows State Road 111 and 60 north to Carwood, Indiana, and then goes north-easterly in a straight line to the Interstate 65 exit for Underwood, Indiana. From Underwood, the concurrent boundary proceeds northwest in a straight line to the cross-roads village of Leota. At Leota, the Ohio River Valley viticultural area boundary line turns to the northeast and continues in a straight line to New Marion in Ripley County, Indiana, while the proposed Indiana Uplands boundary proceeds west and then north to Pumpkin Center and then northwesterly toward Millport on the Muscatatuck River, which is, at this point, concurrent with the boundary between Jackson and Washington Counties, Indiana.

For the reasons stated above, TTB believes that the proposed modification of the boundary of the Ohio River Valley viticultural area also merits consideration and public comment as invited in this notice. The proposed modification of the boundary of the Ohio River Valley viticultural area would only take effect upon the establishment of the proposed Indiana Uplands viticultural area.

Boundary Description

See the narrative boundary description of the petitioned-for Indiana Uplands viticultural area and the proposed modification of the Ohio River Valley viticultural area boundary in the proposed regulatory texts published at the end of this notice.

Maps

The Indiana Uplands petitioner provided the required maps, and TTB lists them below in the proposed regulatory text.

Impact on Current Wine Labels

General

Part 4 of the TTB regulations prohibits any label reference on a wine that indicates or implies an origin other than the wine's true place of origin. If this proposed viticultural area is established, its name, “Indiana Uplands,” will be recognized as a name of viticultural significance under 27 CFR 4.39(i)(3). The text of the proposed regulation clarifies this point.

TTB does not believe that any single part of the proposed viticultural area name standing alone, that is, “Indiana” or “Uplands,” would have viticultural significance in relation to this proposed viticultural area because “Indiana,” standing alone, is locally and nationally known as referring to the State of Indiana, which is already a term of viticultural significance as an appellation of origin under 27 CFR 4.25(a)(1)(ii), which provides that a State is an American appellation of origin, and under 27 CFR 4.39(i)(3), which states that “[a] name has viticultural significance when it is the name of a state * * *”, and because the term “uplands” refers to a common geographical landform found in many locations in the United States and internationally.

If this proposed regulatory text is adopted as a final rule, wine bottlers using “Indiana Uplands” in a brand name, including a trademark, or in another label reference as to the origin of the wine, will have to ensure that the product is eligible to use “Indiana Uplands” as an appellation of origin.

For a wine to be labeled with a viticultural area name or with a brand name that includes a viticultural area name or other term identified as being viticulturally significant in part 9 of the TTB regulations, at least 85 percent of the wine must be derived from grapes grown within the area represented by that name or other term, and the wine must meet the other conditions listed in 27 CFR 4.25(e)(3). If the wine is not eligible for labeling with the viticultural area name or other viticulturally significant term and that name or term appears in the brand name, then the label is not in compliance and the bottler must change the brand name and obtain approval of a new label. Similarly, if the viticultural area name or other viticulturally significant term appears in another reference on the label in a misleading manner, the bottler would have to obtain approval of a new label.

Different rules apply if a wine has a brand name containing a viticultural area name or other term of viticultural significance that was used as a brand name on a label approved before July 7, 1986. See 27 CFR 4.39(i)(2) for details.

Transition Period

If the proposals to establish the Indiana Uplands viticultural area and to modify the boundary of the Ohio River Valley viticultural area are adopted as a final rule, a transition rule will apply to labels for wines produced from grapes grown in the area removed from the Ohio River Valley viticultural area. A label containing the words “Ohio River Valley” in the brand name or as an appellation of origin may be used on wine bottled within two years from the effective date of the final rule, provided that such label was approved prior to the effective date of the final rule and that the wine conforms to the standards for use of the label set forth in 27 CFR 4.25 or 4.39(i) in effect prior to the final rule. At the end of this two-year transition period, if a wine is no longer eligible for labeling with the Ohio River Valley viticultural area name (e.g., it is primarily produced from grapes grown in the area removed from the Ohio River Valley viticultural area), then a label containing the words “Ohio River Valley” in the brand name or as an appellation of origin would not be permitted on the bottle. TTB believes that the two-year period should provide affected label holders with adequate time to use up any old labels. This transition period is described in the proposed regulatory text for the Ohio River Valley viticultural area published at the end of this notice. TTB notes that wine eligible for labeling with the Ohio River Valley viticultural area name under the proposed new boundary of the Ohio River Valley viticultural area will not be affected by this two-year transition period.

Public Participation

Comments Invited

TTB invites comments from interested members of the public on whether TTB should establish the proposed Indiana Uplands viticultural area and modify the boundary of the Ohio River Valley viticultural area. TTB is also interested in receiving comments on the sufficiency and accuracy of evidence for the Indiana Uplands name, boundary, geology, topography, soils, climate, and other required information submitted in support of the petition. TTB is especially interested in comments on the appropriateness of the proposed modification of the Ohio River Valley viticultural area boundary, including comments on whether the distinguishing features of that portion of the proposed Indiana Uplands viticultural area that would have created an overlap are sufficiently distinct from the rest of the Ohio River Valley viticultural area to warrant the proposed boundary modification. Please provide any available specific information in support of your comments.

Because of the potential impact of the establishment of the proposed Indiana Uplands viticultural area on wine labels that include the words “Indiana Uplands” as discussed above under “Impact on Current Wine Labels,” TTB is particularly interested in comments regarding whether there will be a conflict between the proposed area name and currently used brand names. Also, those industry members with wine labels potentially affected by the modification of the Ohio River Valley viticultural area boundary are encouraged to submit comments. If a commenter believes that a conflict will arise, the comment should describe the nature of that conflict, including any negative economic impact that approval of the proposed viticultural area or boundary modification will have on an existing viticultural enterprise. TTB is also interested in receiving suggestions for ways to avoid any conflicts, for example, by adopting a modified or different name or boundary for either viticultural area.

Submitting Comments

You may submit comments on this notice by using one of the following three methods:

• Federal e-Rulemaking Portal: You may send comments via the online comment form posted with this notice in Docket No. TTB-2012-0004 on “Regulations.gov,” the Federal e-rulemaking portal, at http://www.regulations.gov. A direct link to that docket is available under Notice No. 129 on the TTB Web site at http://www.ttb.gov/wine/wine_rulemaking.shtml. Supplemental files may be attached to comments submitted via Regulations.gov. For complete instructions on how to use Regulations.gov, visit the site and click on “User Guide” under “How to Use this Site.”

• U.S. Mail: You may send comments via postal mail to the Director, Regulations and Rulings Division, Alcohol and Tobacco Tax and Trade Bureau, P.O. Box 14412, Washington, DC 20044-4412.

• Hand Delivery/Courier: You may hand-carry your comments or have them hand-carried to the Alcohol and Tobacco Tax and Trade Bureau, 1310 G Street NW., Suite 200E, Washington, DC 20005.

Please submit your comments by the closing date shown above in this notice. Your comments must reference Notice No. 129 and include your name and mailing address. Your comments also must be made in English, be legible, and be written in language acceptable for public disclosure. TTB does not acknowledge receipt of comments, and TTB considers all comments as originals.

If you are commenting on behalf of an association, business, or other entity, your comment must include the entity's name as well as your name and position title. If you comment via http://www.regulations.gov, please enter the entity's name in the “Organization” blank of the comment form. If you comment via mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

On the Federal e-rulemaking portal, Regulations.gov, TTB will post, and you may view, copies of this notice, selected supporting materials, and any electronic or mailed comments TTB receives about this proposal. A direct link to the Regulations.gov docket containing this notice and the posted comments received on it is available on the TTB Web site at http://www.ttb.gov/wine/wine_rulemaking.shtml under Notice No. 129. You may also reach the docket containing this notice and the posted comments received on it through the Regulations.gov search page at http://www.regulations.gov. For instructions on how to use Regulations.gov, visit the site and click on “User Guide” under “How to Use this Site.”

All posted comments will display the commenter's name, organization (if any), city, and State, and, in the case of mailed comments, all address information, including email addresses. TTB may omit voluminous attachments or material that TTB considers unsuitable for posting.

You also may view copies of this notice, all related petitions, maps and other supporting materials, and any electronic or mailed comments TTB receives about this proposal by appointment at the TTB Information Resource Center, 1310 G Street NW., Box 12, Washington, DC 20005. You may also obtain copies at 20 cents per 8.5- x 11-inch page. Contact our information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

Elisabeth C. Kann of the Regulations and Rulings Division drafted this notice.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Amend section 9.78 by:

a. Revising the introductory paragraph of paragraph (c) and paragraphs (c)(5) and (c)(6);

b. Redesignating paragraphs (c)(7) through (c)(21) as paragraphs (c)(11) through (c)(25); and

c. Adding new paragraphs (c)(7), (c)(8), (c)(9), (c)(10), and (d).

The revisions and additions read as follows:

§ 9.78 Ohio River Valley.

* * * * *

(c) Boundary. The Ohio River Valley viticultural area is located in portions of Indiana, Ohio, West Virginia, and Kentucky. The boundary description in paragraphs (c)(1) through (c)(24) of this section includes for each point, in parentheses, the name of the map sheet(s) on which the point can be found.

* * * * *

(5) The boundary proceeds in a straight line southeasterly to the confluence of the Anderson River with the Ohio River at Troy, Indiana (Evansville map).

(6) The boundary proceeds generally eastward along the Indiana shoreline of the Ohio River (Evansville and Vincennes maps) to the mouth of French Creek in Franklin Township, Floyd County, Indiana (Louisville map).

(7) From the mouth of French Creek, the boundary proceeds northerly in a straight line to the peak of Lost Knob, then continues north-northeasterly in a straight line through the peak of Bald Knob to the junction of State Route 111 and a road locally known as W. St. Joe Road at St. Joseph in New Albany Township, Floyd County, Indiana (Louisville map).

(8) The boundary then proceeds north on State Route 111 to State Route 60 at Bennettsville in Clark County, Indiana, then westerly on State Route 60 to Carwood, and then northerly in a straight line to the point where the Clark-Scott county line crosses Interstate 65 at Underwood, Indiana (Louisville map).

(9) The boundary proceeds northwesterly in a straight line to Leota in Scott County, Indiana (Louisville map).

(10) The boundary proceeds in a straight northeast line to the town of New Marion in Ripley County, Indiana (Cincinnati map).

* * * * *

(d) Transition period. A label containing the words “Ohio River Valley” in the brand name or as an appellation of origin approved prior to [effective date of the final rule] may be used on wine bottled before [date 2 years from effective date of the final rule] if the wine conforms to the standards for use of the label set forth in § 4.25 or § 4.39(i) of this chapter in effect prior to [effective date of this final rule].

3. Subpart C is amended by adding § 9.__ to read as follows:

§ 9.__ Indiana Uplands.

(a) Name. The name of the viticultural area described in this section is “Indiana Uplands”. For purposes of part 4 of this chapter, “Indiana Uplands” is a term of viticultural significance.

(b) Approved maps. The six United States Geological Survey 1:100,000-scale metric topographic maps used to determine the boundary of the Indiana Uplands viticultural area are titled:

(1) Tell City, Indiana-Kentucky, 1991;

(2) Jasper, Indiana-Kentucky, 1994;

(3) Bedford, Indiana, 1990;

(4) Bloomington, Indiana, 1986; Photoinspected 1988;

(5) Madison, Indiana-Kentucky, 1990; and

(6) Louisville, Kentucky-Indiana, 1986.

(c) Boundary. The Indiana Uplands viticultural area is located in south-central Indiana. The boundary of the Indiana Uplands viticultural area is as described below:

(1) The beginning point is on the Tell City map at the confluence of the Anderson River with the Ohio River near Troy in Perry County. From the beginning point, proceed north-northwesterly in a straight line, crossing to the Jasper map, to the intersection of State Roads 62 and 162, approximately 3.5 miles north of Santa Claus; then

(2) Proceed north on State Road 162 to its intersection with U.S. Route 231 in Jasper; then

(3) Proceed north on U.S. Route 231, crossing to the Bedford map and the Bloomington map, to the intersection of U.S. Route 231 with the 180-meter contour line in Bloomfield, approximately 0.3 mile south of State Road 54; then

(4) From the west side of State Road 54, proceed northerly along the meandering 180-meter contour line, and, after crossing the Owen-Greene county boundary line, continue northeasterly along the contour line to its intersection with the Monroe-Owen county boundary line approximately 1 mile south of the confluence of Big Creek and the White River; then

(5) Proceed north, then northeasterly, and then south along the Monroe-Owen county boundary line to its intersection with the 200-meter contour line, approximately 0.3 mile south of the White River; then

(6) Proceed easterly along the meandering 200-meter contour line to its intersection with State Road 135, south of Morgantown and approximately 0.8 mile north of the Morgan-Brown county boundary line; then

(7) Proceed south on State Road 135 to the Morgan-Brown county boundary line; then

(8) Proceed east along the Brown-Johnson county boundary line to its intersection with the Brown-Bartholomew county boundary line; then

(9) Proceed south-southeasterly in a straight line to the intersection of State Road 46 and a road locally known as N. County Club Road, approximately 1 mile north of Harrison Lake in western Bartholomew County; then

(10) Proceed south-southwesterly in a straight line to the intersection of State Road 58 and the Bartholomew-Jackson county boundary line; then

(11) Proceed east along the Bartholomew-Jackson county boundary line for approximately 0.4 mile to the county boundary line's first intersection with the meandering 200-meter contour line after crossing Buck Creek in northwestern Jackson County; then

(12) Proceed easterly then southwesterly along the meandering 200-meter contour line, crossing to the Bedford map, to the intersection of the contour line with U.S. Route 50; then

(13) Proceed east on U.S. Route 50 to its intersection with State Road 235; then

(14) Proceed south on State Road 235 to its intersection with the railroad tracks in Medora; then

(15) Proceed southwesterly along the railroad tracks to their closest approach to the bridge over the East Fork of the White River located approximately 0.5 miles east (upstream) of Sparksville (locally known as the Sparks Ferry Road bridge); then

(16) Proceed easterly along the East Fork of the White River and then the Muscatatuck River to the State Road 135 bridge over the Muscatatuck River at Millport; then

(17) Proceed easterly in a straight line to the confluence of the Cammie Thomas Ditch with the Muscatatuck River, located on the northern boundary of Washington County; then

(18) Proceed southeasterly in a straight line, crossing to the Madison map, to the intersection of two roads locally known as E. Pull Tight Road and N. Pumpkin Center East Road at Pumpkin Center in Gibson Township, Washington County; then

(19) Proceed due south in a straight line for approximately 4.5 miles to the line's intersection with a road locally known as E. Old State Road 56; then

(20) Proceed easterly and then northeasterly on E. Old State Road 56 to its intersection with a road locally known in Scott County as S. Bloomington Trail, and then continue southeasterly on S. Bloomington Trail to its intersection with a road locally known as W. Leota Road at Leota; then

(21) Proceed southeasterly in a straight line to the intersection of Interstate 65 and the Scott-Clark counties boundary line at Underwood; then

(22) Proceed south-southwesterly in a straight line, crossing to the Louisville map, to the intersection of State Road 60 and a road known locally as Carwood Road at Carwood in Clark County; then

(23) Proceed southeasterly on State Road 60 to its intersection with State Road 111 at Bennettsville; then

(24) Proceed southerly on State Road 111 for approximately 1.8 miles to its intersection with a road locally known as W. St. Joe Road at St. Joseph; then

(25) Proceed south-southwesterly in a straight line to the 266-meter elevation point on Bald Knob, then continue south-southwesterly in a straight line to the 276-meter elevation point on Lost Knob; then

(26) Proceed southerly in a straight line to the confluence of French Creek with the Ohio River in eastern Franklin Township, Floyd County; then

(27) Proceed (downstream) along the Indiana shoreline of the Ohio River, crossing back and forth between the Tell City and Jasper maps, returning to the beginning point.

Signed: June 1, 2012.
John J. Manfreda,
Administrator.

[FR Doc. 2012-13865 Filed 6-7-12; 8:45 am]

BILLING CODE 4810-31-P